DEPARTMENT OF ENERGY

Federal Energy Regulatory Commission

Combined Notice of Filings #1

Take notice that the Commission received the following exempt wholesale generator filings:

Docket Numbers: EG20-162-000.

Applicants: Maverick Solar, LLC.

Description: Notice of Self-Certification of Exempt Wholesale Generator Status of Maverick Solar, LLC.

Filed Date: 5/13/20.

Accession Number: 20200513-5186.

Comments Due: 5 p.m. ET 6/3/20.

Docket Numbers: EG20-163-000.

Applicants: Maverick Solar 4, LLC.

Description: Notice of Self-Certification of Exempt Wholesale Generator Status of Maverick Solar 4, LLC.

Filed Date: 5/13/20.

Accession Number: 20200513-5187.

Comments Due: 5 p.m. ET 6/3/20.

Docket Numbers: EG20-164-000.

Applicants: Gray County Wind, LLC.

Description: Notice of Self-Certification of Exempt Wholesale Generator Status of Gray County Wind, LLC.

Filed Date: 5/14/20.

Accession Number: 20200514-5043.

Comments Due: 5 p.m. ET 6/4/20.

Docket Numbers: EG20-165-000.

Applicants: Oliver Wind I, LLC.

Description: Notice of Self-Certification of Exempt Wholesale Generator Status of Oliver Wind I, LLC.

Filed Date: 5/14/20.

Accession Number: 20200514-5044.

Comments Due: 5 p.m. ET 6/4/20.

Take notice that the Commission received the following electric rate filings:

Docket Numbers: ER20-1814-000.

Applicants: New England Power Company.

Description: Tariff Cancellation: Notice of Cancellation of System Upgrade Reimbursement Agmt with Deerfield Wind to be effective 7/13/2020.

Filed Date: 5/13/20.

Accession Number: 20200513-5247.

Comments Due: 5 p.m. ET 6/3/20.

Docket Numbers: ER20-1815-000.

Applicants: Public Service Company of New Mexico.

Description: § 205(d) Rate Filing: Modification to Contract P0695 between PNM and Western to be effective 4/15/2020.

Filed Date: 5/14/20.

Accession Number: 20200514-5002.

Comments Due: 5 p.m. ET 6/4/20.

Docket Numbers: ER20-1816-000.

Applicants: PJM Interconnection, L.L.C.

Description: § 205(d) Rate Filing: Original ISA, SA No. 5594; Queue No. AC1-214 to be effective 4/14/2020.

Filed Date: 5/14/20.

Accession Number: 20200514-5045.

Comments Due: 5 p.m. ET 6/4/20.

Docket Numbers: ER20-1817-000.

Applicants: PJM Interconnection, L.L.C.

Description: § 205(d) Rate Filing: Amendment to ISA, SA No. 3831; Queue No. Z1-072 (amend) to be effective 6/14/2016.

Filed Date: 5/14/20.

Accession Number: 20200514-5047.

Comments Due: 5 p.m. ET 6/4/20.

Docket Numbers: ER20-1818-000.

Applicants: Tri-State Generation and Transmission Association, Inc.

Description: Tariff Cancellation: Notice of Cancellation of Service Agreement No. 817 to be effective 5/31/2020.

Filed Date: 5/14/20.

Accession Number: 20200514-5051.

Comments Due: 5 p.m. ET 6/4/20.

Docket Numbers: ER20-1819-000.

Applicants: PJM Interconnection, L.L.C.

Description: § 205(d) Rate Filing: Amendment to ISA, SA No. 5068; Queue No. AB1-081 (amend) to be effective 4/13/2018.

Filed Date: 5/14/20.

Accession Number: 20200514-5066.

Comments Due: 5 p.m. ET 6/4/20.

Docket Numbers: ER20-1820-000.

Applicants: Hickory Run Energy, LLC.

Description: Compliance filing: Hickory Run Energy Compliance Filing to be effective 5/12/2020.

Filed Date: 5/14/20.

Accession Number: 20200514-5079.

Comments Due: 5 p.m. ET 6/4/20.

Docket Numbers: ER20-1821-000.

Applicants: Georgia Power Company.

Description: § 205(d) Rate Filing: Dominion Energy South Carolina Affected System Agreement Filing to be effective 7/8/2020.

Filed Date: 5/14/20.

Accession Number: 20200514-5097.

Comments Due: 5 p.m. ET 6/4/20.

Docket Numbers: ER20-1822-000.

Applicants: Pavant Solar LLC.

Description: § 205(d) Rate Filing: Amendment to Market Based Rate Tariff to be effective 7/13/2020.

Filed Date: 5/14/20.

Accession Number: 20200514-5100.

Comments Due: 5 p.m. ET 6/4/20.

Docket Numbers: ER20-1824-000.

Applicants: ISO New England Inc.

Description: ISO New England Inc. submits First Quarter 2020 Capital Budget Report.

Filed Date: 5/14/20.

Accession Number: 20200514-5158.

Comments Due: 5 p.m. ET 6/4/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 14, 2020.
Nathaniel J. Davis, Sr.,
Deputy Secretary.

[FR Doc. 2020-10845 Filed 5-19-20; 8:45 am]

BILLING CODE 6717-01-P